DEPARTMENT OF THE INTERIOR

Bureau of Indian Affairs

Advisory Board for Exceptional Children

AGENCY: Bureau of Indian Affairs, Interior.

ACTION: Notice of Meeting.

SUMMARY: In accordance with the Federal Advisory Committee Act, the Bureau of Indian Education (BIE) is announcing that the Advisory Board for Exceptional Children will hold its next meeting in Albuquerque, New Mexico. The purpose of the meeting is to meet the mandates of the Individuals with Disabilities Education Improvement Act of 2004 on Indian children with disabilities.

DATES: The Board will meet on Friday, January 23, 2009, from 8 a.m. to 4:30 p.m., and Saturday, January 24, 2009, 8 a.m. to 4:30 p.m., local time.

ADDRESSES: The Friday, January 23, 2009, meeting will be held at the Bureau of Indian Education, Albuquerque Service Center, Division of Performance and Accountability, 1011 Indian School Road, NW., Suite 332, Albuquerque, NM 87103; telephone (505) 563-5274. The Saturday meeting will be held at the Holiday Inn Express, 2300 12th Street, NW., Albuquerque, NM 87104; telephone (877) 863-4780.

FOR FURTHER INFORMATION CONTACT: Stan Holder, Designated Federal Official, Bureau of Indian Education, Albuquerque Service Center, Division of Performance and Accountability, 1011 Indian School Road, NW., P.O. Box 1088, Suite 332, Albuquerque, NM 87103; telephone (505) 563-5251.

SUPPLEMENTARY INFORMATION: The Advisory Board was established to advise the Secretary of the Interior, through the Assistant Secretary—Indian Affairs, on the needs of Indian children with disabilities, as mandated by the Individuals with Disabilities Education Improvement Act of 2004 (Pub. L. 108-446).

The following items will be on the agenda:

• Review of BIE Advisory Board Handbook

• Review of BIE Annual Performance Report

• Review of Advisory Board Charter

The meetings are open to the public.

Dated: January 6, 2009.
George T. Skibine,
Acting Deputy Assistant Secretary for Policy and Economic Development.

[FR Doc. E9-368 Filed 1-9-09; 8:45 am]

BILLING CODE 4310-6W-P